DEPARTMENT OF ENERGY

Federal Energy Regulatory Commission

[Project No. 14106-000]

Kahawai Power 5, LLC; Notice of Preliminary Permit Application Accepted for Filing and Soliciting Comments, Motions To Intervene, and Competing Applications

On March 1, 2011, Kahawai Power 5, LLC filed an application for a preliminary permit, pursuant to section 4(f) of the Federal Power Act (FPA), proposing to study the feasibility of the Wailua Reservoir Water Power (Wailua Reservoir project) to be located on the Wailua reservoir in the vicinity of Wailua Homesteads, in Kauai County, Hawaii. The sole purpose of a preliminary permit, if issued, is to grant the permit holder priority to file a license application during the permit term. A preliminary permit does not authorize the permit holder to perform any land-disturbing activities or otherwise enter upon lands or waters owned by others without the owners' express permission.

The proposed project will utilize flows from the existing 1,400-foot-long earth-fill dam on the Wailua Reservoir, which is owned and operated by State of Hawaii's Department of Land and Natural Resources. New project features would consist of the following: (1) An intake structure at the existing 36-inch low-level outlet structure with a trash rack and control gate; (2) 14,600-foot-long, 42-inch-diameter steel penstock from the intake structure to the powerhouse; (3) a 50-foot by 40-foot reinforced concrete powerhouse containing one two-jet Turgo turbine with a capacity of 2 megawatts; (4) a 45-foot-long, 15-foot-wide tailrace channel; (5) an approximately 12,500-foot-long, 69-kilovolt transmission line which will tie into the existing grid near the Lyngate switchyard; and (6) appurtenant facilities. The estimated annual generation of the Wailua Reservoir project would be 11.5 gigawatt-hours.

Applicant Contact: Ramya Swaminthan, Kawahai Power 5, LLC, 239 Causeway St., Boston, MA 02114; phone: (978) 226-1531.

FERC Contact: Ryan Hansen (202) 502-8074 or through e-mail at ryan.hansen@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-14106-000) in the docket number field to access the document. For assistance, contact FERC Online Support.

Dated: March 30, 2011.
Kimberly D. Bose,
Secretary.

[FR Doc. 2011-8025 Filed 4-4-11; 8:45 am]

BILLING CODE 6717-01-P